DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve a revision of the currently approved information collection project: “Medical Expenditures Panel Survey—Household and Medical Provider Components.” In accordance with the Paperwork Reduction Act of 1995, AHRQ invites the public to comment on this proposed information collection.

DATES: Comments on this notice must be received by June 18, 2024.

ADDRESSES: Written comments should be submitted to: Doris Lefkowitz, Reports Clearance Officer, AHRQ, by email at REPORTSCLEARANCEOFFICER@ahrq.hhs.gov.

FOR FURTHER INFORMATION CONTACT: Doris Lefkowitz, AHRQ Reports Clearance Officer, (301) 427-1477, or by email at REPORTSCLEARANCEOFFICER@ahrq.hhs.gov.

SUPPLEMENTARY INFORMATION:

Proposed Project

Medical Expenditures Panel Survey—Household and Medical Provider Components

AHRQ requests that OMB approve a revision to AHRQ's collection of information for the Medical Expenditures Panel Survey—Household and Medical Provider Components: OMB Control number 0935-0118, expiration November 30, 2025. Requested changes are for the Household Component (MEPS-HC) only.

The MEPS was initiated in 1996. Each year a new panel of sample households is selected. Recent annual MEPS-HC sample sizes average about 13,500 households. Data can be analyzed at either the person, family, or event level. The panel design of the survey, which includes 5 rounds of interviews covering 2 full calendar years, provides data for examining person level changes in selected variables such as expenditures, health insurance coverage, and health status.

This Research Has the Following Goals

(1) To produce nationally representative estimates of health care use, expenditures, sources of payment, and health insurance coverage for the U.S. civilian noninstitutionalized population.

(2) To produce nationally representative estimates of respondents' health status, demographic and socio-economic characteristics, employment, access to care, and satisfaction with health care.

Proposed Changes for the 2025 MEPS-HC

• Core MEPS Interview and Adult SAQ—The Core interview and the Adult Self-Administered Questionnaire (SAQ) include four questions from the Consumer Assessment of Healthcare Providers and Systems 5.0 (CAHPS 5.0). These questions will have wording changes to update them to CAHPS 5.1. These wording changes will help identify telehealth utilization and access, as well as maintain consistency between CAHPS and MEPS-HC questionnaire items. Below are the four questions, both the current version and the proposed version:

Current: In the last 12 months, did {you/{PERSON}} have an illness, injury or condition that needed care right away in a clinic, emergency room, or doctor's office?

Proposed: In the last 12 months, did {you/{PERSON}} have an illness, injury, or condition that needed care right away?

Current: In the last 12 months, did you make any appointments for a check-up or routine care for {yourself/{PERSON}} at a doctor's office or clinic?

Proposed: In the last 12 months, did you make any in-person, phone, or video appointments for a check-up or routine care for {yourself/{PERSON}}?

Current: Looking at card CS-2, in the last 12 months, how often did you get an appointment for a check-up or routine care for {yourself/{PERSON}} at a doctor's office or clinic as soon as {you/he/she} needed?

Proposed: Looking at card CS-2, in the last 12 months, how often did you get an appointment for a check-up or routine care for {yourself/{PERSON}} as soon as {you/he/she} needed?

Current: Looking at card CS-3, in the last 12 months, not counting times {you/{PERSON}} went to an emergency room, how many times did {you/he/she} go to a doctor's office or clinic to get health care?

Proposed: Looking at card CS-3, in the last 12 months, not counting the times {you/{PERSON}} went to an emergency room, how many times did {you/he/she} get health care in person, by phone, or by video?

• Burdens and Economic Impacts of Medical Care Self-Administered Questionnaire (ESAQ)—The Office of the Secretary—Patient Centered Outcomes Research Trust Fund is funding this SAQ to expand the collection of economic outcomes data for patient-centered outcomes research (PCOR) via the Medical Expenditure Panel Survey (MEPS).

The ESAQ will be completed during Round 3, Panel 30 and Round 5, Panel 29 (Spring 2025) by adult household members (aged 18 and over). The ESAQ will be administered in a mixed-mode of paper and online. Respondents will be offered a $20.00 monetary incentive to complete the ESAQ. This is a one-time data collection and the ESAQ will be removed from the MEPS after the 2025 fielding. The goal of the ESAQ is to enhance the MEPS data by adding new domains related to the economic burdens of seeking and receiving health care, to study economic outcomes in patient-centered outcomes research.

There is no other survey that is now or has been recently conducted that will meet the objectives of the ESAQ. The ESAQ will supplement MEPS data on direct care expenditures with data on major indirect costs, including time costs of getting care and administrative hassles; lost work productivity due to presenteeism, lost productivity in non-market activities, and time costs of informal care. With this new data, researchers will be able to better examine health care economic burdens and equity in health care access, utilization, and outcomes, for example to aggregate social costs of health care and poor health, examine indirect costs associated with common conditions, and analyze disparities and equity in indirect costs.

In developing the ESAQ, AHRQ consulted with several experts in the area and used their expertise to identify priority topics and questions that have already been tested and widely accepted. Nearly all items are either from Federal surveys, federally funded surveys, or adapted from instruments that have been carefully validated. Two questions related to affordability and access are from Kaiser Family Foundation surveys. One question about informal care was cognitively tested in a prior question development project. One question on the high-priority topic of administrative hassles of health insurance was developed from phrases from the carefully tested and widely accepted Consumer Assessment of Health Plans and Systems.

• Cancer Self-Administered Questionnaire (CSAQ)—The CSAQ will be removed from the 2025 MEPS-HC.

This study is being conducted by AHRQ through its contractor, Westat, pursuant to AHRQ's statutory authority to conduct and support research on healthcare and on systems for the delivery of such care, including activities with respect to the cost and use of health care services and with respect to health statistics and surveys. 42 U.S.C. 299a(a)(3) and (8); 42 U.S.C. 299b-2.

Method of Collection

The MEPS-HC uses a combination of computer assisted personal interviewing (CAPI), computer assisted video interviewing (CAVI), and self-administered paper and web questionnaires, to collect information about each household member, and the survey builds on this information from interview to interview. CAVI is a new data collection technology and offers the best of both telephone and in-person interviewing, while offering opportunities for cost savings and more accurate reporting.

Estimated Annual Respondent Burden

Exhibit 1 shows the estimated annualized burden hours for the respondents' time to participate in the MEPS-HC and the MEPS-MPC.

MEPS-HC

• MEPS-HC Core Interview—completed by 12,218 “family level” respondents. Since the MEPS-HC typically consists of 5 rounds of interviewing covering a full two years of data, the annual average number of responses per respondent is 2.5 responses per year. The MEPS-HC core requires an average response time of 88 minutes to administer.

• Adult SAQ—completed once during the 2-year panel, in rounds 2 and 4 during odd numbered years, making the annualized average 0.5 times per year. The Adult SAQ will be completed by 11,912 adults and requires an average of 7 minutes to complete.

• Preventive Care SAQ (PSAQ)—completed once during the 2-year panel, in rounds 2 and 4 during even numbered years, making the annualized average 0.5 times per year. The PSAQ will be completed by 11,912 adults and requires an average of 7 minutes to complete.

• Diabetes Care Survey (DCS)—completed by 1,195 persons each year and requires 3 minutes to complete.

• Burdens and Economic Impacts of Medical Care SAQ—completed by 15,577 and is estimated to take 10 minutes to complete. This SAQ will be completed only once in 2025 and will be removed in 2026; to annualize the burden hours the number of responses per respondent is 0.5 times per year.

• Authorization forms for the MEPS-MPC and Pharmacy Survey—completed by 6,769 respondents. Each respondent will complete an average of 5.7 forms each year, with each form requiring an average of 3 minutes to complete.

• Validation interview—conducted with approximately 1,759 respondents each year and requires 5 minutes to complete. The total annual burden hours for the respondent's time to participate in the MEPS-HC is estimated to be 49,149 hours.

MEPS-MPC

• Contact Guide/Screening Call—conducted with 38,683 providers and pharmacies each year and requires 5 minutes to complete.

• Home Care Providers Event Form—completed by 540 providers, with each provider completing an average of 5 forms and each form requiring 3 minutes to complete.

• Office-based Providers Event Form—completed by 9,300 providers. Each provider will complete an average of 2.8 forms and each form requires 3 minutes to complete.

• Separately Billing Doctors Event Form—will be completed by 4,676 providers, with each provider completing 1.2 forms on average, and each form requiring 3 minutes to complete.

• Hospital Event Form—completed by 3,935 hospitals or HMOs. Each hospital or HMO will complete 5.9 forms on average, with each form requiring 3 minutes to complete.

• Institutions (non-hospital) Event Form—completed by 86 institutions, with each institution completing 1.3 forms on average, and each form requiring 3 minutes to complete.

• Pharmacy Event Form—completed by 6,112 pharmacies. Each pharmacy will complete 31.3 forms on average, with each form requiring 3 minutes to complete.

The total burden hours for the respondent's time to participate in the MEPS-MPC is estimated to be 15,674 hours. The total annual burden hours for the MEPS-HC and MPC is estimated to be 64,832 hours.

Exhibit 1—MEPS-HC and MPC Estimated Annualized Respondents and Burden Hours, 2025 to 2027
Form name | Number of respondents | Number of responses per respondent | Hours per response | Total burden hours
MEPS-HC
MEPS-HC Core Interview | 12,218 | 2.5 | 88/60 | 44,799
Adult SAQ * | 11,912 | 0.5 | 7/60 | 695
Preventive Care SAQ (PSAQ) ** | 11,912 | 0.5 | 7/60 | 695
Diabetes Care Survey (DCS) | 1,195 | 1 | 3/60 | 60
Burdens and Economic Impacts of Medical Care SAQ | 15,577 | 0.5 | 10/60 | 1,298
Authorization forms for the MEPS-MPC Provider and Pharmacy Survey | 6,769 | 5.7 | 3/60 | 1,455
MEPS Validation Interview | 1,759 | 1 | 5/60 | 147
Subtotal for the MEPS-HC | 61,342 |  |  | 49,149
MEPS-MPC
Contact Guide/Screening Call | 38,683 | 1 | 5/60 | 3,224
Home Care Providers Event Form | 540 | 5.0 | 3/60 | 135
Office-based Providers Event Form | 9,300 | 2.8 | 3/60 | 1,302
Separately Billing Doctors Event Form | 4,676 | 1.2 | 3/60 | 281
Hospitals & HMOs (Hospital Event Form) | 3,935 | 5.9 | 3/60 | 1,161
Institutions (non-hospital) Event Form | 86 | 1.3 | 3/60 | 6
Pharmacies Event Form | 6,112 | 31.3 | 3/60 | 9,565
Subtotal for the MEPS-MPC | 63,332 |  |  | 15,674
Grand Total | 124,674 |  |  | 64,832
* The Adult SAQ is completed once every two years, on the odd numbered years.
** The PSAQ is completed once every two years, on the even numbered years.

Exhibit 2 shows the estimated annual cost burden associated with the respondents' time to participate in this information collection. The annual cost burden for the MEPS-HC is estimated to be $1,462,674 and the annual cost burden for the MEPS-MPC is estimated to be $306,285. The total annual cost burden for the MEPS-HC and MPC is estimated to be $1,768,959.

Exhibit 2—Estimated Annualized Cost Burden
Form name | Total burden hours | Average hourly wage rate | Total cost burden
MEPS-HC
MEPS-HC Core Interview | 44,799 | * $29.76 | $1,333,218
Adult SAQ | 695 | * 29.76 | 20,683
Preventive Care SAQ (PSAQ) | 695 | * 29.76 | 20,683
Diabetes Care Survey (DCS) | 60 | * 29.76 | 1,786
Burdens and Economic Impacts of Medical Care SAQ | 1,298 | * 29.76 | 38,628
Authorization forms for the MEPS-MPC Provider and Pharmacy Survey | 1,455 | * 29.76 | 43,301
MEPS Validation Interview | 147 | * 29.76 | 4,375
Subtotal for the MEPS-HC | 49,149 |  | 1,462,674
MEPS-MPC
MPC Contact Guide/Screening Call | 3,224 | ** 19.84 | 63,964
Home care Providers Event Form | 135 | ** 19.84 | 2,678
Office-based Providers Event Form | 1,302 | ** 19.84 | 25,832
Separately Billing Doctors (SBD) Event Form | 281 | ** 19.84 | 5,575
Hospitals & HMOs (Hospital Event Form | 1,161 | ** 19.84 | 23,034
Institutions (non-hospital) Event Form | 6 | ** 19.84 | 119
Pharmacies Event Form | 9,565 | *** 19.35 | 185,083
Subtotal for the MEPS-MPC | 15,674 |  | 306,285
Grand Total | 64,832 |  | 1,768,959
* Mean hourly wage for All Occupations (00-0000)
** Mean hourly wage for Medical Secretaries (43-6013)
*** Mean hourly wage for Pharmacy Technicians (29-2052)
Occupational Employment Statistics, May 2022 National Occupational Employment and Wage Estimates United States, U.S. Department of Labor, Bureau of Labor Statistics.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: April 15, 2024.
Mamatha Pancholi,
Deputy Director.

[FR Doc. 2024-08431 Filed 4-18-24; 8:45 am]

BILLING CODE 4160-90-P